DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 26, 2008.

Interested persons are invited to submit written comments regarding the subject matter of the investigations to the Director, Division of Trade Adjustment Assistance, at the address shown below, not later than December 26, 2008.

The petitions filed in this case are available for inspection at the Office of the Director, Division of Trade Adjustment Assistance, Employment and Training Administration, U.S. Department of Labor, Room C-5311, 200 Constitution Avenue, NW., Washington, DC 20210.

Signed at Washington, DC, this 5th day of December 2008.
Erin Fitzgerald,
Director, Division of Trade Adjustment Assistance.

Appendix

TAA petitions Instituted Between 11/24/08 and 11/28/08
TA-W | Subject firm (Petitioners) | Location | Date of institution | Date of petition
64512 | United Airlines (IBT) | Elk Grove Village, IL | 11/24/08 | 11/16/08
64513 | Signa Group, Inc. (Comp) | Ludington, MI | 11/24/08 | 11/17/08
64514 | El Paso Chile Company (Comp) | El Paso, TX | 11/24/08 | 11/21/08
64515 | Perry Manufacturing (Comp) | El Dorado Springs, MO | 11/24/08 | 11/20/08
64516 | JDS Uniphase Corporation (Wkrs) | San Jose, CA | 11/24/08 | 11/13/08
64517 | DeRoyal Industries (Wkrs) | San Luis Obispo, CA | 11/24/08 | 11/13/08
64518 | Hendrickson USA, LLC (Comp) | Lugoff, SC | 11/24/08 | 11/19/08
64519 | Hitachi Metals Automotive Components USA, LLC (Comp) | Lawrenceville, PA | 11/24/08 | 11/21/08
64520 | Bowne of Cleveland (Wkrs) | Cleveland, OH | 11/24/08 | 11/21/08
64521 | Goodrich Aerostructures (IAMAW) | Chula Vista, CA | 11/24/08 | 11/06/08
64522 | American Axle and Manufacturing, Inc. (State) | Detroit, MI | 11/24/08 | 11/21/08
64523 | Kautex-Textron (Union) | Wilmington, OH | 11/24/08 | 11/21/08
64524 | United Airlines, Inc. (Union) | Sterling, VA | 11/24/08 | 11/19/08
64525 | Stamford Industrial Group (Wkrs) | Warren, OH | 11/24/08 | 11/13/08
64526 | North American Lighting (Corporate Office) (State) | Paris, IL | 11/24/08 | 11/21/08
64527 | LA-Z-BOY, Inc. of Arkansas (State) | Siloam Springs, AR | 11/25/08 | 11/24/08
64528 | Fuji Photo Film, Inc. (Wkrs) | Greenwood, SC | 11/25/08 | 11/24/08
64529 | Broyhill Plant #3 (Wkrs) | Lenoir, NC | 11/25/08 | 11/17/08
64530 | Fujimi Corporation (Comp) | Tualatin, OR | 11/25/08 | 11/24/08
64531 | Beacon Looms, Inc. (Wkrs) | Teaneck, NJ | 11/25/08 | 11/17/08
64532 | F.L. Smithe Machine Company (IAWAW) | Duncansville, PA | 11/25/08 | 11/15/08
64533 | Racine Stamping Corporation (Comp) | Racine, WI | 11/25/08 | 11/19/08
64534 | Siemens Energy and Automation, Inc. (Comp) | El Paso, TX | 11/25/08 | 11/19/08
64535 | Tricon Timber, LLC (Comp) | St. Regis, MT | 11/25/08 | 11/24/08
64536 | Industrial Paint and Strip, Inc. (Comp) | Woodsfield, OH | 11/25/08 | 11/18/08
64537 | Mitel (Wkrs) | Chandler, AZ | 11/25/08 | 11/24/08
64538 | Meadville Forging Company (Wkrs) | Meadville, PA | 11/25/08 | 11/24/08
64539 | Nu-Mode Manufacturing Co., Inc. (Comp) | Taylorsville, NC | 11/26/08 | 11/25/08
64540 | Hancock and Moore, Inc. (Wkrs) | Hickory, NC | 11/26/08 | 11/25/08
64541 | North Douglas Wood Products, Inc. (Comp) | Drain, OR | 11/26/08 | 10/30/08
64542 | Mannatech, Inc. (Wkrs) | Coppell, TX | 11/26/08 | 11/21/08
64543 | E. R. Wagner Manufacturing Company (Wkrs) | Milwaukee, WI | 11/26/08 | 11/24/08
64544 | Source Provides, Inc. (comprehensive logistic) (UAW) | Lansing, MI | 11/26/08 | 11/24/08
64545 | Sanmina SCI (Wkrs) | Turtle Lake, WI | 11/26/08 | 11/18/08
64546 | Hightower Technology Capital, Inc. (Comp) | San Diego, CA | 11/26/08 | 11/25/08
64547 | GKN Sinter Metals/St. Marys Plant (Wkrs) | Kersey, PA | 11/26/08 | 11/14/08
64548 | Stuart Flooring Corporation (Comp) | Stuart, VA | 11/26/08 | 11/21/08
64549 | Bosal Industries (Comp) | Lavonia, GA | 11/26/08 | 11/17/08
64550 | Chrysler Trenton Engine Plant (UAW) | Port Huron, MI | 11/28/08 | 11/26/08
64551 | United Airlines/O'Hare Maintenance (Wkrs) | Chicago, IL | 11/28/08 | 11/25/08
64552 | Bos Automotive (Wkrs) | Morristown, TN | 11/28/08 | 11/17/08
64553 | Springs Creative Products Group (Comp) | Rock Hall, SC | 11/28/08 | 11/26/08
64554 | Winchester Electronics Corporation (State) | Wallingford, CT | 11/28/08 | 11/26/08
64555 | Blair Mills, LLC (Comp) | Belton, SC | 11/28/08 | 11/11/08
64556 | Woodhead L.P. (Wkrs) | El Paso, TX | 11/28/08 | 11/26/08
64557 | Ontario Die Company of America (Comp) | Port Huron, MI | 11/28/08 | 11/24/08

[FR Doc. E8-29608 Filed 12-12-08; 8:45 am]

BILLING CODE 4510-FN-P